DEPARTMENT OF COMMERCE

National Oceanic and Atmospheric Administration

[I.D. 083106C]

Endangered and Threatened Species: Recovery Plan Preparation for 5 Evolutionarily Significant Units (ESUs) of Pacific Salmon and 5 Distinct Population Segments (DPSs) of Steelhead Trout

AGENCY: National Marine Fisheries Service (NMFS), National Oceanic and Atmospheric Administration (NOAA), Commerce.

ACTION: Notice of intent; request for information.

SUMMARY: NMFS announces its intent to develop recovery plans for 5 ESUs of Pacific salmon and 5 DPSs of steelhead trout in California that are listed as threatened or endangered under the Endangered Species Act (ESA) and also requests information from the public. NMFS is required by the ESA to develop and implement recovery plans for the conservation and survival of ESA-listed species. NMFS is coordinating with state, Federal, tribal, and local entities in California and intends to produce draft recovery plans by June 2007.

DATES: All information must be received no later than 5 p.m. Pacific Daylight Time on November 13, 2006. Information received after the deadline will be used to the maximum extent practicable.

ADDRESSES: Information may be submitted by any of the following methods:

• E-mail: Information for recovery planning may be submitted by e-mail to RecoveryInfo.swr@noaa.gov. Please include in the subject line of the e-mail the identifier “Information for ESA Recovery Planning, Attention: (insert name of appropriate NMFS Recovery Coordinator)” and specify the recovery domain to which your information applies. Please refer to the list of recovery domains and recovery coordinators provided below in the FOR FURTHER INFORMATION CONTACT section to determine the appropriate NMFS Recovery Coordinator and recovery domain. If information pertaining to more than one recovery domain will be submitted, then a separate e-mail should be sent for each domain, using the appropriate subject line in each e-mail.

• Mail: Information may be submitted by mail to Assistant Regional Administrator, Protected Species Division, NMFS, Sacramento Area Office, 650 Capitol Mall, Suite 8-300, Sacramento, California, 95814-4706. Please identify information as “Information for ESA Recovery Planning” and specify the recovery domain(s) to which your information applies (see the FOR FURTHER INFORMATION CONTACT section, below, to determine the appropriate domain).

• Hand Delivery/Courier: You may hand deliver information or have information delivered by courier to NMFS, Sacramento Area Office, 650 Capitol Mall, Suite 8-300, Sacramento, California, 95814-4706. Business hours are 8 a.m. to 4:30 p.m., Monday through Friday, except Federal holidays. Please identify information as “Information for ESA Recovery Planning” and specify the recovery domain(s) to which your information applies (see the FOR FURTHER INFORMATION CONTACT section, below, to determine the appropriate domain).

• Fax: You may fax information to 916-930-3629. Please identify the fax comment as regarding “Information for Recovery Planing” and specify the recovery domain(s) to which your information applies (see the FOR FURTHER INFORMATION CONTACT section, below, to determine the appropriate domain).

FOR FURTHER INFORMATION CONTACT: Please contact the recovery coordinator listed here for the geographic area or recovery domain in which you are interested. Additional salmon-related materials are available on the Southwest Region's Internet site: http://www.swr.noaa.gov.

Southern Oregon/Northern California Coast Domain: Recovery Coordinator Greg Bryant at 707-825-5162 or by email at Greg.Bryant@noaa.gov

North-Central California Coast Domain: Recovery Coordinator Charlotte Ambrose at 707-575-6068 or by email at Charlotte.A.Ambrose@noaa.gov

South-Central California Coast Domain: Recovery Coordinator Mark Capelli at 805-963-6478 or by email at Mark.Capelli@noaa.gov

Central Valley Domain: Recovery Coordinator Diane Windham at 916-930-3619 or by email at Diane.Windham@noaa.gov

SUPPLEMENTARY INFORMATION:

Species Covered in This Notice

There are 5 ESUs of salmon and 5 DPSs of steelhead trout listed as threatened or endangered species in California including:

Chinook Salmon (Oncorhynchus tshawytscha): Sacramento River Winter-run, Central Valley Spring-run, and California Coastal.

Coho Salmon (Oncorhynchus kisutch): Southern Oregon/Northern California Coast, and Central California Coast.

Steelhead Trout (Oncorhynchus mykiss): Northern California Coast, Central California Coast, South-Central California Coast, Southern California Coast, and California Central Valley.

Background

NMFS is charged with the recovery of Pacific salmon and steelhead species listed under the ESA. Recovery under the ESA means that listed species and their ecosystems are restored, and their future secured, so that the protections of the ESA are no longer necessary.

The ESA requires that NMFS develop and implement recovery plans for the conservation and survival of endangered and threatened species. These recovery plans provide blueprints to determine priority recovery actions for funding and implementation. The ESA specifies that recovery plans must include: (1) a description of site-specific management actions that may be necessary to achieve the plan's goals for the conservation and survival of the species; (2) objective, measurable criteria, which when met, would result in the species being removed from the list of threatened and endangered species; and (3) estimates of the time and costs required to achieve the plan's goal and achieve intermediate steps toward that goal. In addition, NMFS has developed interim recovery planning guidance (NMFS, 2004) that provides additional information to ensure consistency among recovery plans that are developed for all species managed by NMFS. The guidance also stresses the importance of involving stakeholders in the recovery planning process. NMFS will take into consideration all information we receive during this comment period in the preparation of draft recovery plans for salmon and steelhead in California.

In order to develop recovery plans that address multiple species in an ecosystem context, NMFS has organized its recovery planning activities in California into four recovery areas or “domains” (Southern Oregon/Northern California Coast, North-Central California Coast, South-Central California Coast, and California Central Valley). Each domain will have one or more recovery plans that address all the listed salmon ESUs and/or steelhead DPSs within it. While each recovery plan will meet the requirements of the ESA and will use consistent scientific principles, plan(s) for individual planning domains are expected to be different because of differences in species, the amount and quality of information regarding the species and habitat conditions, and differences in ongoing and planned conservation efforts such as CalFed in the Central Valley, the State of California coho salmon recovery plan on the north coast, and many other local planning efforts and intiatives.

To develop key technical products for all salmon ESUs and steelhead DPSs and to provide general science support, NMFS formed separate teams of scientists (called Technical Recovery Teams) for each of the four recovery planning domains described above. These teams are developing technical information on population structure of individual ESUs and DPSs, viability criteria for individual populations within ESUs and DPSs and for ESUs and DPSs as a whole, recommendations for future research, and a framework for monitoring the listed ESUs/DPSs.

Finally, NMFS has developed a schedule for producing draft recovery plans in each recovery domain by June 2007 and final recovery plans by January 2008. Because draft recovery plans may be developed using different approaches in the four domains and because of differences in information on the species in each domain, the level of detail in these draft recovery plans is expected to vary. NMFS will publish draft recovery plans in the Federal Register and public comment will be sought for each proposed plan.

NMFS requests relevant information from the public that should be addressed during preparation of draft recovery plans. Such information should address: (a) Biological and other criteria for removing the ESUs or DPSs from the list of threatened and endangered species; (b) factors that are presently limiting or threaten to limit survival of the ESUs or DPSs; (c) actions to address limiting factors and threats; (d) estimates of time and cost to implement recovery actions; and (e) research, monitoring, and evaluation needs.

Authority: 16 U.S.C. 1531 et seq.

Dated: September 6, 2006.
Marta Nammack,
Acting Chief, Endangered Species Division, Office of Protected Resources, National Marine Fisheries Service.

[FR Doc. E6-14986 Filed 9-8-06; 8:45 am]

BILLING CODE 3510-22-S